DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) #Depth in feet above ground modified | Communities affected
Furnas County, Nebraska, and Incorporated Areas
FEMA Docket No.: B-7747
Medicine Creek | Approximately 0.17 mile downstream of U.S. Highway 6 | +2257 | City of Cambridge, Unincorporated Areas of Furnas County.
| Approximately 300 feet upstream of Road 409 | +2270
Republican River | Approximately 3.18 miles downstream of State Highway 47 | +2243 | City of Cambridge, Unincorporated Areas of Furnas County.
| Approximately 480 feet upstream of State Highway 47 | +2263
* National Geodetic Vertical Datum.
+ North American Vertical Datum.
# Depth in feet above ground.
ADDRESSES
City of Cambridge
Maps are available for inspection at 722 Patterson Avenue, Cambridge, NE 69022.
Unincorporated Areas of Furnas County
Maps are available for inspection at 912 R Street, Beaver City, NE 68926.
Wilkes County, North Carolina and Incorporated Areas
Docket No.: FEMA-B-7763
Beaver Creek | At the confluence with Yadkin River | +1,079 | Unincorporated Areas of Wilkes County.
| Approximately 750 feet upstream of Caldwell/Wilkes County boundary | +1,228
Beaver Creek Tributary 1 | At the confluence with Beaver Creek | +1,084 | Unincorporated Areas of Wilkes County.
| Approximately 0.7 mile upstream of the confluence with Beaver Creek | +1,100
Beaver Creek Tributary 2 | At the confluence with Beaver Creek | +1,153 | Unincorporated Areas of Wilkes County.
| Approximately 590 feet upstream of Livingston Road (State Road 1130) | +1,169
Beaver Creek Tributary 3 | At the confluence with Beaver Creek | +1,159 | Unincorporated Areas of Wilkes County.
| Approximately 0.7 mile upstream of the confluence with Beaver Creek | +1,190
Big Branch | At the confluence with Middle Prong Roaring River | +1,300 | Unincorporated Areas of Wilkes County.
| Approximately 1,080 feet upstream of Moxley Road (State Road 1735) | +1,350
Big Bugaboo Creek | At the confluence with Yadkin River | +926 | Unincorporated Areas of Wilkes County.
| Approximately 0.9 mile upstream of the confluence of Big Bugaboo Creek Tributary 1 | +1,213
Big Bugaboo Creek Tributary 1 | At the confluence with Big Bugaboo Creek | +1,183 | Unincorporated Areas of Wilkes County.
| Approximately 2,000 feet upstream of the confluence with Big Bugaboo Creek | +1,207
Big Sandy Creek | At the confluence with East Prong Roaring River | +1,226 | Unincorporated Areas of Wilkes County.
| Approximately 1,270 feet upstream of Traphill-Brown Road (State Road 1741) | +1,323
Big Warrior Creek | At the confluence with Warrior Creek | +1,085 | Unincorporated Areas of Wilkes County.
| Approximately 1.8 miles upstream of the confluence of Big Warrior Creek Tributary 1 | +1,275
Big Warrior Creek Tributary 1 | At the confluence with Big Warrior Creek | +1,128 | Unincorporated Areas of Wilkes County.
| Approximately 0.8 mile upstream of the confluence with Big Warrior Creek | +1,237
Blood Creek | At the confluence with Warrior Creek | +1,075 | Unincorporated Areas of Wilkes County.
| Approximately 1,990 feet upstream of Walsh Town Road (State Road 1119) | +1,081
Brier Creek | At the confluence with Yadkin River | +933 | Unincorporated Areas of Wilkes County.
| Approximately 1,370 feet upstream of Ranse Staley Road (State Road 2325) | +1,039
Brier Creek Tributary 1 | At the confluence with Brier Creek | +933 | Unincorporated Areas of Wilkes County.
| Approximately 1.1 miles upstream of Red White & Blue Road (State Road 2324) | +981
Brushy Creek | Approximately 300 feet downstream of the Iredell/Wilkes County boundary | +906 | Unincorporated Areas of Wilkes County.
| Approximately 100 feet upstream of the Iredell/Wilkes County boundary | +908
Cane Creek | At the confluence with West Prong Roaring River | +1,173 | Unincorporated Areas of Wilkes County.
| Approximately 1.7 miles upstream of Dehart Church Road (State Road 1715) | +1,325
Cub Creek | At the confluence with Yadkin River | +963 | Unincorporated Areas of Wilkes County, Town of Wilkesboro.
| Approximately 0.6 mile upstream of Pennell Road (State Road 2493) | +1,084
Darnell Creek | At the confluence with North Fork Reddies River | +1,290 | Unincorporated Areas of Wilkes County.
| Approximately 1.2 miles upstream of State Road 1567 | +1,413
Double Creek | At the confluence with Middle Prong Roaring River | +1,293 | Unincorporated Areas of Wilkes County.
| Approximately 100 feet upstream of confluence of Double Creek Tributary 1 | +1,371
Double Creek Tributary 1 | The confluence with Double Creek | +1,370 | Unincorporated Areas of Wilkes County.
| Approximately 0.5 mile upstream of confluence with Double Creek | +1,396
Dugger Creek | At the confluence with Elk Creek | +1,278 | Unincorporated Areas of Wilkes County.
| Approximately 1,170 feet upstream of Elk Creek Darby Road (State Road 1162) | +1,323
East Prong Roaring River | At the confluence with Roaring River | +1,009 | Unincorporated Areas of Wilkes County.
| Approximately 2.8 miles upstream of Longbottom Road (State Road 1737) | +1,389
East Swan Creek | At the confluence with Swan Creek | +911 | Unincorporated Areas of Wilkes County.
| Approximately 0.9 mile upstream of the confluence with Swan Creek | +927
Elk Creek | At the confluence with Yadkin River | +1,090 | Unincorporated Areas of Wilkes County.
| At the Watauga/Wilkes County boundary | +1,349
Elk Creek Tributary 1 | At the confluence with Elk Creek | +1,235 | Unincorporated Areas of Wilkes County.
| Approximately 0.8 mile upstream of Elk Creek Darby Road (State Road 1162) | +1,626
Elk Creek Tributary 2 | At the confluence with Elk Creek | +1,237 | Unincorporated Areas of Wilkes County.
| Approximately 1,030 feet upstream of Meadow Road | +1,358
Elkin Creek | Approximately 1,700 feet downstream of the Wilkes/Surry County boundary | +938 | Unincorporated Areas of Wilkes County.
| Approximately 700 feet upstream of Union Community Road (State Road 1918) | +1,293
Elkin Creek Tributary 1 | At the confluence with Elkin Creek | +1,185 | Unincorporated Areas of Wilkes County.
| Approximately 0.7 mile upstream of State Road 1910 | +1,213
Fishing Creek | At the confluence with Yadkin River | +942 | Unincorporated Areas of Wilkes County.
| Approximately 100 feet downstream of Speedway Road (State Road 2355) | +1,063
Fishing Creek Tributary 1 | At the confluence with Fishing Creek | +945 | Unincorporated Areas of Wilkes County.
| Approximately 1.9 miles upstream of Old NC 60 Highway (State Road 2318) | +997
Fishing Creek Tributary 2 | At the confluence with Fishing Creek | +1,023 | Unincorporated Areas of Wilkes County.
| Approximately 250 feet downstream of U.S. Highway 421 | +1,129
Fishing Creek Tributary 2A | At the confluence with Fishing Creek Tributary 2 | +1,119 | Unincorporated Areas of Wilkes County.
| Approximately 0.5 mile upstream of the confluence with Fishing Creek Tributary 2 | +1,153
Fletcher Creek | At the confluence with South Prong Lewis Fork | +1,399 | Unincorporated Areas of Wilkes County.
| Approximately 0.4 mile upstream of Shady Walk Lane | +1,517
Gambill Creek | At the confluence with West Prong Roaring River | +1,343 | Unincorporated Areas of Wilkes County.
| Approximately 0.6 mile upstream of the confluence with West Prong Roaring River | +1,401
Gladys Fork | At the confluence with Stony Fork | +1,092 | Unincorporated Areas of Wilkes County.
| Approximately 0.5 mile upstream of Mount Pleasant Road (State Road 1135) | +1,141
Grassy Creek West | At the confluence with Elkin Creek | +980 | Unincorporated Areas of Wilkes County.
| At Wilkes/Surry County boundary | +987
Grassy Fork | At the confluence with Elkin Creek | +1,112 | Unincorporated Areas of Wilkes County.
| Approximately 1,990 feet upstream of the confluence with Elkin Creek | +1,119
Grays Creek | At the confluence with the Yadkin River | +921 | Unincorporated Areas of Wilkes County.
| Approximately 0.9 mile upstream of State Road 2321 | +929
Harris Creek | At the confluence with Double Creek | +1,318 | Unincorporated Areas of Wilkes County.
| Approximately 0.6 mile upstream of Longbottom Road (State Road 1730) | +1,425
Hoopers Branch | At the confluence with Reddies River | +997 | Unincorporated Areas of Wilkes County, Town of North Wilkesboro.
| Approximately 1,580 feet upstream of Hackett Street | +1,088
Huffman Branch | At the confluence with North Prong Lewis Fork | +1,278 | Unincorporated Areas of Wilkes County.
| Approximately 0.6 mile upstream of Parsonville Road (State Road 1300) | +1,324
Hunting Creek | Approximately 100 feet downstream of the Wilkes/Iredell County boundary | +895 | Unincorporated Areas of Wilkes County.
| Approximately 1.4 miles upstream of Balls Mill Road (State Road 2474) | +1,176
Joshua Creek | At the confluence with Mulberry Creek | +1,453 | Unincorporated Areas of Wilkes County.
| Approximately 890 feet upstream of Longbottom Road (State Road 1728) | +1,528
Left Prong Stony Fork | At the confluence with Stony Fork | +1,332 | Unincorporated Areas of Wilkes County.
| At the Watauga/Wilkes County boundary | +1,639
Lewis Fork | At the confluence with Yadkin River | +1,075 | Unincorporated Areas of Wilkes County.
| At the confluence of North Prong Lewis Fork and South Prong Lewis Fork | +1,077
Little Bugaboo Creek | At the confluence with Big Bugaboo Creek | +1,035 | Unincorporated Areas of Wilkes County.
| Approximately 620 feet upstream of Hoots Road (State Road 2014) | +1,074
Little Elkin Creek | The confluence with Yadkin River | +905 | Unincorporated Areas of Wilkes County.
| Approximately 0.6 mile upstream of Greenhorn Road (State Road 1931) | +1,177
Little Fork Creek | At the confluence with North Prong Lewis Fork | +1,304 | Unincorporated Areas of Wilkes County.
| Approximately 1.4 miles upstream of Benny Parsons Road (State Road 1359) | +1,664
Little Hunting Creek | At the confluence with Hunting Creek | +915 | Unincorporated Areas of Wilkes County.
| Approximately 2.0 miles upstream of Mountain View Church Road (State Road 2503) | +1,281
Little Sandy Creek | At the confluence with East Prong Roaring River | +1,084 | Unincorporated Areas of Wilkes County.
| Approximately 0.5 mile upstream of Longbottom Road (State Road 1737) | +1,280
Little Warrior Creek | At the confluence with Warrior Creek | +1,075 | Unincorporated Areas of Wilkes County.
| Approximately 0.6 mile upstream of Thankful Church Road (State Road 1125) | +1,170
Long Branch North | At the Wilkes/Yadkin County boundary | +1,075 | Unincorporated Areas of Wilkes County.
| Approximately 50 feet upstream of the Wilkes/Yadkin County boundary | +1,075
Middle Fork Reddies River | At the confluence with Reddies River | +1,202 | Unincorporated Areas of Wilkes County.
| Approximately 0.7 mile upstream of State Road 1580 | +1,326
Middle Prong Roaring River | At the confluence with Roaring River | +1,009 | Unincorporated Areas of Wilkes County.
| Approximately 2.1 miles upstream of Moxley Road (State Road 1735) | +1,442
Mill Creek | At the confluence with Cub Creek | +964 | Unincorporated Areas of Wilkes County, Town of Wilkesboro.
| Approximately 1,000 feet downstream of Country Club Road (State Road 2462) | +1,052
Mill Creek North | At the confluence with North Fork Reddies River | +1,258 | Unincorporated Areas of Wilkes County.
| Approximately 0.6 mile upstream of Mertie Road (State Road 1570) | +2,115
Moravian Creek | At the confluence with Yadkin River | +968 | Unincorporated Areas of Wilkes County, Town of Wilkesboro.
| At the confluence of Moravian Creek Tributary 1 | +1,233
Moravian Creek Tributary 1 | At the confluence with Moravian Creek | +1,233 | Unincorporated Areas of Wilkes County.
| Approximately 0.5 mile upstream of Lowe Creek Road (State Road 2488) | +1,311
Mulberry Creek | At the confluence with Yadkin River | +952 | Unincorporated Areas of Wilkes County, Town of North Wilkesboro.
| At the confluence of Joshua Creek | +1,453
Mulberry Creek Tributary 1 | At the confluence with Mulberry Creek | +1,294 | Unincorporated Areas of Wilkes County.
| Approximately 0.6 mile upstream of Sparta Road/NC Highway 18 | +1,405
Naked Creek | At the confluence with Lewis Fork | +1,075 | Unincorporated Areas of Wilkes County.
| Approximately 110 feet downstream of Dr. Miles Road (State Road 1152) | +1,172
North Fork Reddies River | At the confluence with Reddies River | +1,167 | Unincorporated Areas of Wilkes County.
| Approximately 200 feet downstream of Vannoy Road (State Road 1575) | +1,460
North Little Hunting Creek | At the Wilkes/Yadkin County boundary | +1,024 | Unincorporated Areas of Wilkes County.
| Approximately 1,410 feet upstream of Somers Road (State Road 2400) | +1,119
North Little Hunting Creek Tributary 3 | At the confluence with North Little Hunting Creek | +1,039 | Unincorporated Areas of Wilkes County.
| Approximately 610 feet upstream of the U.S. Highway 421 East ramp | +1,069
North Little Hunting Creek Tributary 4 | At the confluence with North Little Hunting Creek | +1,069 | Unincorporated Areas of Wilkes County.
| Approximately 410 feet upstream of Somers Road (State Road 2400) | +1,098
North Prong Lewis Fork | At the confluence with Lewis Fork | +1,077 | Unincorporated Areas of Wilkes County.
| Approximately 2.0 miles upstream of Big Ivy Road (State Road 1360) | +1,698
Osborn Creek | At the confluence with Hunting Creek | +895 | Unincorporated Areas of Wilkes County.
| Approximately 1.1 miles upstream of Hunting Creek Road (State Road 2412) | +1,044
Pumpkin Creek | At the confluence with Warrior Creek | +1,075 | Unincorporated Areas of Wilkes County.
| Approximately 0.4 mile upstream of Pumpkin Creek Road (State Road 11933) | +1,163
Pumpkin Run | At the confluence with South Prong Lewis Fork | +1,298 | Unincorporated Areas of Wilkes County.
| Approximately 1.0 mile upstream of Pumpkin Run Road (State Road 1303) | +1,400
Reddies River | At the confluence with Yadkin River | +964 | Unincorporated Areas of Wilkes County, Town of North Wilkesboro.
| At the confluence of Middle Fork Reddies River and South Fork Reddies River | +1,202
Roaring River | At the confluence with Yadkin River | +936 | Unincorporated Areas of Wilkes County.
| At the confluence of East Prong Roaring River and Middle Prong Roaring River | +1,009
Rocky Creek | At the Wilkes/Alexander County boundary | +1,192 | Unincorporated Areas of Wilkes County.
| Approximately 1.0 mile upstream of the confluence of Rocky Creek Tributary 1 | +1,287
Rocky Creek Tributary 1 | At the confluence with Rocky Creek | +1,255 | Unincorporated Areas of Wilkes County.
| Approximately 1,500 feet upstream of the confluence with Rocky Creek | +1,263
Shell Creek | At the confluence with Stony Fork | +1,164 | Unincorporated Areas of Wilkes County.
| Approximately 870 feet upstream of Mt. Zion Road (State Road 1155) | +1,197
South Fork Reddies River | At the confluence with Reddies River | +1,202 | Unincorporated Areas of Wilkes County.
| Approximately 50 feet upstream of White Oak Road (State Road 1355) | +1,388
South Prong Lewis Fork | At the confluence with Lewis Fork | +1,077 | Unincorporated Areas of Wilkes County.
| Approximately 1.2 miles upstream of the confluence of Fletcher Creek | +1,478
South Prong Lewis Fork Tributary 1 | At the confluence with South Prong Lewis Fork | +1,195 | Unincorporated Areas of Wilkes County.
| Approximately 2.4 miles upstream of the confluence with South Prong Lewis Fork | +1,536
Sparks Creek | At the confluence with Little Sandy Creek | +1,108 | Unincorporated Areas of Wilkes County.
| Approximately 800 feet downstream of Cook-Lyon Road | +1,200
Stony Fork | At the confluence with Yadkin River | +1,078 | Unincorporated Areas of Wilkes County.
| At the Watauga/Wilkes County boundary | +1,975
Swan Creek | At the confluence with Yadkin River | +911 | Unincorporated Areas of Wilkes County.
| At the confluence of East Swan Creek and West Swan Creek | +911
Tributary M-1-1 | Approximately 50 feet upstream of the confluence with Tributary M-1 | +1,071 | Unincorporated Areas of Wilkes County, Town of North Wilkesboro.
| Approximately 0.5 mile upstream of Elkin Highway/NC Highway 268 | +1,160
Tributary R-1 | Approximately 1,360 feet upstream of Finley Street | +1,090 | Town of North Wilkesboro.
| Approximately 0.4 mile upstream of Finley Street | +1,126
Tributary R-1-1 | Approximately 100 feet upstream of the confluence with Tributary R-1 | +1,047 | Town of North Wilkesboro.
| Approximately 0.4 mile upstream of the confluence with Tributary R-1 | +1,153
Tributary Y-1 | At the confluence with Yadkin River | +957 | Town of North Wilkesboro.
| Approximately 0.6 mile upstream of the confluence of Tributary Y-1-1 | +1,088
Tributary Y-1-1 | At the confluence with Tributary Y-1 | +959 | Town of North Wilkesboro.
| Approximately 0.4 mile upstream of the confluence with Tributary Y-1 | +1,072
Tributary Y-2 | At the confluence with Yadkin River | +962 | Town of North Wilkesboro.
| Approximately 0.7 mile upstream of 2nd Street/U.S. Highway 421 | +1,078
Tributary Y-3 | At the confluence with Yadkin River | +963 | Town of North Wilkesboro.
| Approximately 100 feet downstream of D Street | +996
Warrior Creek | At the confluence with Yadkin River | +1,075 | Unincorporated Areas of Wilkes County.
| Approximately 830 feet upstream of NC Highway 18 | +1,107
West Prong Moravian Creek | At the confluence with Moravian Creek | +1,068 | Unincorporated Areas of Wilkes County.
| Approximately 1.3 miles upstream of Falls Road (State Road 1108) | +1,184
West Prong Moravian Creek Tributary 1 | At the confluence with West Prong Moravian Creek | +1,075 | Unincorporated Areas of Wilkes County.
| Approximately 510 feet downstream of Falls Road (State Road 1108) | +1,100
West Prong Roaring River | At the confluence with Middle Prong Roaring River | +1,091 | Unincorporated Areas of Wilkes County.
| Approximately 2.4 miles upstream of State Road 1731 | +1,561
West Swan Creek | At the confluence with Swan Creek | +911 | Unincorporated Areas of Wilkes County.
| Approximately 0.8 mile upstream of Bagley Springs Road (State Road 2311) | +944
Whites Creek | At the confluence with Yadkin River | +1,075 | Unincorporated Areas of Wilkes County.
| Approximately 1.1 miles upstream of NC Highway 268 | +1,094
Yadkin River | Approximately 200 feet downstream of the Yadkin/Wilkes County boundary | +903 | Unincorporated Areas of Wilkes County, Town of North Wilkesboro, Town of Ronda, Town of Wilkesboro.
| At the Caldwell/Wilkes County boundary | +1,090
Yadkin River Tributary 14 | At the confluence with Yadkin River | +903 | Unincorporated Areas of Wilkes County.
| Approximately 0.9 mile upstream of State Road 2306 | +917
Yadkin River Tributary 15 | At the confluence with Yadkin River | +919 | Unincorporated Areas of Wilkes County.
| Approximately 1.7 miles upstream of the confluence with Yadkin River | +942
* National Geodetic Vertical Datum.
+ North American Vertical Datum.
# Depth in feet above ground.
ADDRESSES
Town of North Wilkesboro
Maps are available for inspection at North Wilkesboro Town Hall, 832 Main Street, North Wilkesboro, North Carolina.
Town of Ronda
Maps are available for inspection at Ronda Town Hall, 123 Chatham Street, Ronda, North Carolina.
Town of Wilkesboro
Maps are available for inspection at Wilkesboro Town Hall, 203 West Main Street, Wilkesboro, North Carolina.
Unincorporated Areas of Wilkes County
Maps are available for inspection at Wilkes County Office Building, 110 North Street, Wilkesboro, North Carolina.
Providence County, Rhode Island, and Incorporated Areas
FEMA Docket No.: B-7746
Blackstone River | Just downstream of Exchange Street | +34 | City of Central Falls, City of Pawtucket, City of Woonsocket, Town of Cumberland, Town of Lincoln, Town of North Smithfield.
| Approximately 2,100 feet upstream of the confluence of Slaterville River Branch | +158
* National Geodetic Vertical Datum.
+ North American Vertical Datum.
# Depth in feet above ground.
ADDRESSES
City of Central Falls
Maps are available for inspection at City Hall, 580 Broad Street, Central Falls, RI 02863.
City of Pawtucket
Maps are available for inspection at City Hall, 137 Roosevelt Avenue, Pawtucket, RI 02860.
City of Woonsocket
Maps are available for inspection at City Hall, 169 Main Street, Woonsocket, RI 02895.
Town of Cumberland
Maps are available for inspection at Town Hall, 45 Broad Street, Cumberland, RI 02864.
Town of Lincoln
Maps are available for inspection at Town Hall, 100 Old River Road, Lincoln, RI 02865.
Town of North Smithfield
Maps are available for inspection at Town Hall, 575 Smithfield Road, North Smithfield, RI 02896.
Door County, Wisconsin, and Incorporated Areas
FEMA Docket No.: D-7800
Ahnapee River | Approximately 0.6 mile downstream of County Highway J | +587 | Village of Forestville.
| Approximately 400 feet upstream of County Highway J | +590
Green Bay | Approximately 800 feet north of the intersection of County Highway CC and Lime Kiln Road | +585 | Door County (Unincorporated Areas) Village of Egg Harbor, Village of Sister Bay.
| Approximately 900 feet west of the intersection of State Highway 42 and Garrett Bay Road | +585
* National Geodetic Vertical Datum.
+ North American Vertical Datum.
# Depth in feet above ground.
ADDRESSES
Door County (Unincorporated Areas)
Maps are available for inspection at Door County Courthouse, 421 Nebraska Street, Sturgeon Bay, WI 54235-0670.
Village of Egg Harbor
Maps are available for inspection at Village of Egg Harbor Village Hall, 7860 Highway 42, Egg Harbor, WI 54209.
Village of Forestville
Maps are available for inspection at Village of Forestville Village Hall, 123 South Forestville Avenue, Forestville, WI 54213.
Village of Sister Bay
Maps are available for inspection at Village of Sister Bay Village Hall, 421 Maple Drive, Sister Bay, WI 54234.
Washakie County, Wyoming, and Incorporated Areas
FEMA Docket No.: B-7755
Sage Creek | Downstream—just upstream of confluence with Bighorn River | +4056 | City of Worland, Unincorporated Areas of Washakie County.
| Upstream—approximately 400 ft downstream of intersection County Ln 13 and Upper Hanover Canal Rd | +4141
* National Geodetic Vertical Datum.
+ North American Vertical Datum.
# Depth in feet above ground.
ADDRESSES
City of Worland
Maps are available for inspection at 1001 Big Horn Avenue, Worland, WY 82401.
Town of Ten Sleep
Maps are available for inspection at 1001 Big Horn Avenue, Worland, WY 82401.
Unincorporated Areas of Washakie County
Maps are available for inspection at 1001 Big Horn Avenue, Worland, WY 82401.

(Catalog of Federal Domestic Assistance No. 97.022, “Flood Insurance.”)

Dated: September 15, 2008.
Michael K. Buckley,
Acting Assistant Administrator, Mitigation Directorate, Department of Homeland Security, Federal Emergency Management Agency.

[FR Doc. E8-22524 Filed 9-24-08; 8:45 am]

BILLING CODE 9110-12-P